DEPARTMENT OF HOUSING AND URBAN DEVELOPMENT

[Docket No. FR-4815-N-64]

Notice of Submission of Proposed Information Collection to OMB: Fair Housing Initiatives Program

AGENCY: Office of the Chief Information Officer, HUD.

ACTION: Notice.

SUMMARY: The proposed information collection requirement described below has been submitted to the Office of Management and Budget (OMB) for review, as required by the Paperwork Reduction Act. The Department is soliciting public comments on the subject proposal.

The Department is seeking renewal of the approval to collect information to select awardees for the Fair Housing Initiatives Program (FHIP) grant. The application requirements contain some changes from those in use since 3/2003.

DATES: Comments Due Date: October 9, 2003.

ADDRESSES: Interested persons are invited to submit comments regarding this proposal. Comments should refer to the proposal by name and/or OMB approval number (2529-0033) and should be sent to: Lauren Wittenberg, OMB Desk Officer, Office of Management and Budget, Room 10235, New Executive Office Building, Washington, DC 20503; Fax number (202) 395-6974; E-mail Lauren_Wittenberg@omb.eop.gov.

FOR FURTHER INFORMATION CONTACT: Copies of the relevant documentation are available from Wayne Eddins, Reports Management Officer, AYO, Department of Housing and Urban Development, 451 Seventh Street, Southwest, Washington, DC 20410; e-mail Wayne_Eddins@HUD.gov; telephone (202) 708-2374. This is not a toll-free number.

SUPPLEMENTARY INFORMATION: The Department has submitted the proposal for the collection of information, as described below, to OMB for review, as required by the Paperwork Reduction Act (44 U.S.C. Chapter 35). The Notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk Officer for the Department.

This Notice also lists the following information:

Title of Proposal: Fair Housing Initiatives Program.

OMB Approval Number: 2529-0033.

Form Numbers: HUD 424, 424B, 424C, 424CB, 424CBW, HUD 2880, SF LLL, HUD 2990, 2991, 2993, 2994, 40076 FHIP.

Description of the Need for the Information and Its Proposed Use: The Information collected will assist the Department in selecting the highest-ranking applicants for the Fair Housing Initiatives Program (FHIP) grant. Information will also be included to oversee administration of the grant.

Respondents: Business or other for-profit, Not-for-profit institutions, State, Local or Tribal Government.

Frequency of Submission: On occasion, Quarterly, Other (as required by application and award documents).

Reporting Burden: Estimated number of Respondents 400: Average annual responses per respondent 3; Total annual responses 1,186; Average burden per response 40 hours.

Total Estimated Burden Hours: 48,472.

Status: Extension of a currently approved collection.

Authority: Section 3507 of the Paperwork Reduction Act of 1995, 44 U.S.C. 35, as amended.

Dated: August 27, 2003.
Wayne Eddins,
Departmental Reports Management Officer, Office of the Chief Information Officer.

[FR Doc. 03-22842 Filed 9-8-03; 8:45 am]

BILLING CODE 4210-72-P